DEPARTMENT OF ENERGY

Federal Energy Regulatory Commission

Combined Notice of Filings #1

Take notice that the Commission received the following electric corporate filings:

Docket Numbers: EC25-68-000.

Applicants: Catalyst Power Parent LLC.

Description: Application for Authorization Under Section 203 of the Federal Power Act of Catalyst Power Parent LLC.

Filed Date: 3/24/25.

Accession Number: 20250324-5320.

Comment Date: 5 p.m. ET 4/14/25.

Docket Numbers: EC25-69-000.

Applicants: Hillcrest Solar I, LLC, Boswell Wind, LLC, Last Mile Transmission LLC, Curtis/Palmer Hydroelectric Company L.P., Caisse de depot et placement du Quebec.

Description: Joint Application for Authorization Under Section 203 of the Federal Power Act of Hillcrest Solar I, LLC, et al.

Filed Date: 3/24/25.

Accession Number: 20250324-5323.

Comment Date: 5 p.m. ET 4/14/25.

Take notice that the Commission received the following electric rate filings:

Docket Numbers: ER10-1556-010.

Applicants: Longview Power, LLC.

Description: Response to Triennial Market Power Analysis for Northeast Region of Longview Power, LLC.

Filed Date: 3/21/25.

Accession Number: 20250321-5255.

Comment Date: 5 p.m. ET 4/11/25.

Docket Numbers: ER20-681-011.

Applicants: Tri-State Generation and Transmission Association, Inc.

Description: Supplement to December 31, 2024, Triennial Market Power Analysis for Southwest Region of Tri-State Generation and Transmission Association, Inc.

Filed Date: 3/21/25.

Accession Number: 20250321-5254.

Comment Date: 5 p.m. ET 4/11/25.

Docket Numbers: ER25-1348-001.

Applicants: New Madrid Solar, LLC.

Description: Tariff Amendment: New Madrid Solar, LLC Errata to Application for MBR Authorization (ER25-1348-) to be effective 4/22/2025.

Filed Date: 3/24/25.

Accession Number: 20250324-5271.

Comment Date: 5 p.m. ET 4/14/25.

Docket Numbers: ER25-1349-001.

Applicants: Sebree Solar, LLC.

Description: Tariff Amendment: Sebree Solar, LLC Errata to Application for MBR Authorization (ER25-1349-) to be effective 4/22/2025.

Filed Date: 3/24/25.

Accession Number: 20250324-5264.

Comment Date: 5 p.m. ET 4/14/25.

Docket Numbers: ER25-1527-001.

Applicants: Knox County Wind Farm LLC.

Description: Tariff Amendment: Knox County Wind Farm LLC Errata to Application for MBR Auth. (ER25-1527-) to be effective 5/6/2025.

Filed Date: 3/25/25.

Accession Number: 20250325-5119.

Comment Date: 5 p.m. ET 4/15/25.

Docket Numbers: ER25-1744-000.

Applicants: Appleseed Solar, LLC.

Description: § 205(d) Rate Filing: Application for Market-Based Rate Authorization—Appleseed Solar, LLC to be effective 5/24/2025.

Filed Date: 3/24/25.

Accession Number: 20250324-5282.

Comment Date: 5 p.m. ET 4/14/25.

Docket Numbers: ER25-1745-000.

Applicants: Idaho Power Company.

Description: Tariff Amendment: Cancellation of RS Nos. 164 & 169 and SA Nos. 430, 419, & 420 to be effective 1/1/2023.

Filed Date: 3/24/25.

Accession Number: 20250324-5284.

Comment Date: 5 p.m. ET 4/14/25.

Docket Numbers: ER25-1746-000.

Applicants: PJM Interconnection, L.L.C.

Description: § 205(d) Rate Filing: Original GIA, Service Agreement No. 7603; AF2-106 to be effective 2/20/2025.

Filed Date: 3/24/25.

Accession Number: 20250324-5290.

Comment Date: 5 p.m. ET 4/14/25.

Docket Numbers: ER25-1747-000.

Applicants: Diversion Wind Energy Holdings LLC.

Description: Tariff Amendment: Notice of Cancellation of Market-Based Rate Tariff to be effective 3/31/2025.

Filed Date: 3/25/25.

Accession Number: 20250325-5000.

Comment Date: 5 p.m. ET 4/15/25.

Docket Numbers: ER25-1748-000.

Applicants: Fairbanks Solar Holdings LLC.

Description: Tariff Amendment: Notice of Cancellation of Market-Based Rate Tariff to be effective 3/31/2025.

Filed Date: 3/25/25.

Accession Number: 20250325-5001.

Comment Date: 5 p.m. ET 4/15/25.

Docket Numbers: ER25-1749-000.

Applicants: Sierra Pacific Power Company, Nevada Power Company.

Description: Compliance filing: Nevada Power Company submits tariff filing per 35: Compliance Filing Order No. 904 to be effective 3/26/2025.

Filed Date: 3/25/25.

Accession Number: 20250325-5032.

Comment Date: 5 p.m. ET 4/15/25.

Docket Numbers: ER25-1750-000.

Applicants: PJM Interconnection, L.L.C.

Description: Tariff Amendment: Notice of Cancellation of CSA, SA No. 5250; Queue No. AB2-067/AC1-044/AD2-189 to be effective 10/29/2024.

Filed Date: 3/25/25.

Accession Number: 20250325-5046.

Comment Date: 5 p.m. ET 4/15/25.

Docket Numbers: ER25-1751-000.

Applicants: PJM Interconnection, L.L.C.

Description: Tariff Amendment: Notice of Cancellation of CSA, SA No. 5362; Queue No. AB2-099/AE2-346 to be effective 3/4/2025.

Filed Date: 3/25/25.

Accession Number: 20250325-5056.

Comment Date: 5 p.m. ET 4/15/25.

Docket Numbers: ER25-1752-000.

Applicants: PJM Interconnection, L.L.C.

Description: § 205(d) Rate Filing: Original GIA Service Agreement No. 7600; Project Identifier No. AF1-207 to be effective 2/23/2025.

Filed Date: 3/25/25.

Accession Number: 20250325-5099.

Comment Date: 5 p.m. ET 4/15/25.

Docket Numbers: ER25-1753-000.

Applicants: PJM Interconnection, L.L.C.

Description: § 205(d) Rate Filing: Original GIA Service Agreement No. 7602; Project Identifier No. AF2-078 to be effective 2/24/2025.

Filed Date: 3/25/25.

Accession Number: 20250325-5108.

Comment Date: 5 p.m. ET 4/15/25.

Docket Numbers: ER25-1754-000.

Applicants: PJM Interconnection, L.L.C.

Description: § 205(d) Rate Filing: Original NSA, SA No. 7623; Queue No. AE2-181 to be effective 5/25/2025.

Filed Date: 3/25/25.

Accession Number: 20250325-5120.

Comment Date: 5 p.m. ET 4/15/25.

Docket Numbers: ER25-1755-000.

Applicants: Midcontinent Independent System Operator, Inc.

Description: § 205(d) Rate Filing: 2025-03-25_SA 4300 Termination of ATC-WPL E&P (J1706) to be effective 3/26/2025.

Filed Date: 3/25/25.

Accession Number: 20250325-5126.

Comment Date: 5 p.m. ET 4/15/25.

Docket Numbers: ER25-1756-000.

Applicants: Hermes BESS LLC.

Description: Initial Rate Filing: Baseline new to be effective 3/26/2025.

Filed Date: 3/25/25.

Accession Number: 20250325-5152.

Comment Date: 5 p.m. ET 4/15/25.

Docket Numbers: ER25-1757-000.

Applicants: Tri-State Generation and Transmission Association, Inc.

Description: § 205(d) Rate Filing: Initial Filing of Service Agreement No. 114 to be effective 3/1/2025.

Filed Date: 3/25/25.

Accession Number: 20250325-5153.

Comment Date: 5 p.m. ET 4/15/25.

Take notice that the Commission received the following public utility holding company filings:

Docket Numbers: PH25-6-000.

Applicants: LS Power Development, LLC.

Description: LS Power Development, LLC submits FERC 65-B Notice of Change in Fact to Waiver Notification.

Filed Date: 3/24/25.

Accession Number: 20250324-5319.

Comment Date: 5 p.m. ET 4/14/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 25, 2025.
Carlos D. Clay,
Deputy Secretary.

[FR Doc. 2025-05470 Filed 3-28-25; 8:45 am]

BILLING CODE 6717-01-P